DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 12, 2007.

Interested persons are invited to submit written comments regarding the subject matter of the investigations to the Director, Division of Trade Adjustment Assistance, at the address shown below, not later than March 12, 2007.

The petitions filed in this case are available for inspection at the Office of the Director, Division of Trade Adjustment Assistance, Employment and Training Administration, U.S. Department of Labor, Room C-5311, 200 Constitution Avenue, NW., Washington, DC 20210.

Signed at Washington, DC, this 22nd day of February 2007.
Ralph DiBattista,
Director, Division of Trade Adjustment Assistance.

Appendix
[TAA petitions instituted between 2/12/07 and 2/16/07]
TA-W | Subject firm (petitioners) | Location | Date of institution | Date of petition
60935 | Georgia Narrow Fabrics (Comp) | Jesup, GA | 02/12/07 | 01/26/07
60936 | Duro Textiles LLC (Comp) | Fall River, MA | 02/12/07 | 02/07/07
60937 | Key Fashion Inc. (Wkrs) | Brooklyn, NY | 02/12/07 | 02/08/07
60938 | Plastron Industries (Wkrs) | Bensenville, IL | 02/12/07 | 02/06/07
60939 | New Orleans Cuisine (State) | Grambling, LA | 02/12/07 | 01/16/07
60940 | U.S. Global Flag Corporation (UNITE) | Paterson, NJ | 02/12/07 | 01/31/07
60941 | Hoover Precision Products, Inc. (Comp) | East Granby, CT | 02/12/07 | 02/02/07
60942 | Weyerhaeuser—Bauman Lumber (IAMAW) | Lebanon, OR | 02/12/07 | 02/09/07
60943 | Teamlinden/Divison of Fisher and Company (Comp) | Linden, TN | 02/12/07 | 01/23/07
60944 | Morton Salt (State) | New Iberia, LA | 02/12/07 | 02/08/07
60945 | Miss Brenner Wet Printing, Inc. (Comp) | Clifton, NJ | 02/12/07 | 02/07/07
60946 | Safer Textiles Processing Corporation (Comp) | Newark, NJ | 02/12/07 | 02/07/07
60947 | Meadows Knitting Corporation (Comp) | Newark, NJ | 02/12/07 | 02/07/07
60948 | Kuttner Prints, Inc. (Comp) | East Rutherford, NJ | 02/12/07 | 02/07/07
60949 | National Apparel, Inc. (Wkrs) | San Francisco, CA | 02/13/07 | 01/30/07
60950 | Northern Hardwoods (Comp) | South Range, MI | 02/13/07 | 02/09/07
60951 | Hartford Technologies (Wkrs) | Rocky Hill, CT | 02/13/07 | 02/09/07
60952 | Scovill Fasteners, Inc. (Comp) | Clarkesville, GA | 02/13/07 | 02/02/07
60953 | Broyhill Furniture Ind. #55 (Wkrs) | Lenoir, NC | 02/13/07 | 01/07/07
60954 | Congoleum Corporation (Comp) | Trainer, PA | 02/13/07 | 02/12/07
60955 | Red Lion Manufacturing, Inc. (Comp) | Hallam, PA | 02/13/07 | 02/02/07
60956 | Becky's of Asheboro, Inc. (Wkrs) | Asheboro, NC | 02/13/07 | 02/09/07
60957 | Douglas Quikut (State) | Walnut Ridge, AR | 02/13/07 | 02/12/07
60958 | Sekely Industries (Wkrs) | Salem, OH | 02/13/07 | 02/09/07
60959 | Mundy's Lumber and Veneer (Wkrs) | Murphy, NC | 02/13/07 | 02/12/07
60960 | Flynn Enterprises, LLC (State) | Hopkinsville, KY | 02/15/07 | 02/09/07
60961 | Vytech Industries Inc. (Wkrs) | Anderson, SC | 02/15/07 | 02/09/07
60962 | Mitchel Manufacturing (Div. of Quaker Lace) (Wkrs) | Honea Path, SC | 02/15/07 | 02/06/07
60963 | American Greetings (Plus Mark) (Wkrs) | Afton, TN | 02/15/07 | 02/12/07
60964 | Federal Mogul (Comp) | St. Louis, MO | 02/15/07 | 02/13/07
60965 | Eaton Aviation Corporation dba Eaton Aerospace (Comp) | Aurora, CO | 02/15/07 | 02/13/07
60966 | Vishay Intertechnology—Vitramon (State) | Monroe, CT | 02/16/07 | 02/15/07
60967 | Masco Corporation of Indiana (Delta Faucet Company) (Comp) | Greensburg, IN | 02/16/07 | 02/05/07
60968 | Deluxe Video Services Inc. (State) | N. Little Rock, AR | 02/16/07 | 02/14/07
60969 | RM International Inc. (State) | Portland, OR | 02/16/07 | 02/12/07
60970 | TDS/US Automotive (Comp) | Chesapeake, VA | 02/16/07 | 01/19/07
60971 | PHD USA Advertising, LLC (Wkrs) | Troy, MI | 02/16/07 | 02/06/07
60972 | Parlex Polymer Flexible Circuits (Comp) | Cranston, RI | 02/16/07 | 02/15/07
60973 | Collins and Aikman (State) | Oklahoma City, OK | 02/16/07 | 01/13/07
60974 | Cadence Innovation (Wkrs) | Fraser, MI | 02/16/07 | 01/19/07
60975 | Elliss Technologies LLC (Comp) | Sterling Heights, MI | 02/16/07 | 02/14/07
60976 | Federal Mogul Inc./Global Distribution & Logistics (Comp) | Berkeley, MO | 02/16/07 | 02/13/07
60977 | Ward Manufacturing, Inc. (Comp) | Blossburg, PA | 02/16/07 | 02/14/07

[FR Doc. E7-3457 Filed 2-27-07; 8:45 am]

BILLING CODE 4510-FN-P